NUCLEAR REGULATORY COMMISSION

10 CFR Parts 11 and 25

[NRC-2011-0161]

RIN 3150-AJ00

Access Authorization Fees; Correction

AGENCY: Nuclear Regulatory Commission.

ACTION: Correcting amendments.

SUMMARY: The U.S. Nuclear Regulatory Commission (NRC) is correcting the preamble, or statement of considerations (SOC), and codified text in a direct final rule that was published in the Federal Register on May 3, 2012 (77 FR 26149) and confirmed on June 22, 2012 (77 FR 37553). The direct final rule amended the NRC's access authorization fees charged to licensees for work performed under the Material Access Authorization Program (MAAP) and the Information Access Authority Program (IAAP). This document is necessary to correct an email address, a codification error, a misspelled abbreviation, and the authority citations.

DATES: The correction is effective on August 3, 2012 and applicable to June 22, 2012, the date the original rule became effective.

FOR FURTHER INFORMATION CONTACT: Cindy Bladey, Chief, Rules, Announcements, and Directives Branch, Office of Administration, U.S. Nuclear Regulatory Commission, Washington, DC 20555-0001; telephone: 301-492-3667; email: Cindy.Bladey@nrc.gov.

SUPPLEMENTARY INFORMATION: The NRC published a direct final rule in the Federal Register on May 3, 2012 (77 FR 26149) and a confirmation of the effective date on June 22, 2012 (77 FR 37553). The direct final rule amended the NRC's access authorization fees charged to licensees for work performed under the MAAP and the IAAP. This document is necessary to correct an email address, a codification error, a misspelled abbreviation, and the authority citations in the codified text. The following corrects the SOC to the May 3, 2012, document:

1. On page 26150, in the second column before the table, the first paragraph, the last sentence is corrected to read as follows:

The NRC's licensees can also obtain the current OPM investigation billing rates schedule by contacting the NRC's Personnel Security Branch (PSB), Division of Facilities and Security (DFS), Office of Administration (ADM) by email to Licensee_Access_Authorization_Fee.Resource@nrc.gov.

2. On page 26150, in the first column after the table, the first paragraph, the fifth sentence is corrected to read as follows:

Copies of the current NRC access authorization fee can be obtained by contacting the NRC's Personnel Security Branch, Division of Facilities Security, Office of Administration by email to Licensee_Access_Authorization_Fee.Resource@nrc.gov.

List of Subjects

10 CFR Part 11

Hazardous materials—transportation, Investigations, Nuclear materials, Reporting and recordkeeping requirements, Security measures, Special nuclear material.

10 CFR Part 25

Classified information, Criminal penalties, Investigations, Reporting and recordkeeping requirements, Security measures.

For the reasons set out in the preamble and under the authority of the Atomic Energy Act of 1954, as amended; the Energy Reorganization Act of 1974, as amended; and 5 U.S.C. 552 and 553, the NRC is adopting the following amendments to 10 CFR parts 11 and 25.

PART 11—CRITERIA AND PROCEDURES FOR DETERMINING ELIGIBILITY FOR ACCESS TO OR CONTROL OVER SPECIAL NUCLEAR MATERIAL

1. Revise the authority citation for part 11 to read as follows:

Authority: Atomic Energy Act sec. 161 (42 U.S.C. 2201); Energy Reorganization Act sec. 201 (42 U.S.C. 5841); Government Paperwork Elimination Act sec. 1704 (44 U.S.C. 3504 note).

Section 11.15(e) also issued under Independent Offices Appropriations Act sec. 501, (31 U.S.C. 9701); Omnibus Reconciliation Act of 1990 sec. 6101 (42 U.S.C. 2214).

2. In § 11.15:

a. In paragraph (e)(2), second sentence, and paragraph (e)(3), sixth sentence, remove the reference “Licensee_Access_Authorization_Fee@nrc.gov” and add, in its place, the reference “Licensee_Access_Authorization_Fee.Resource@nrc.gov”; and

b. In paragraph (e)(3), in the table, revise the first row.

The revision reads as follows:

§ 11.15 Application for special nuclear material access authorization.

* * * * *

(e) * * *

(3) * * *

The NRC application fee for an access authorization of type* * * | Is the sum of the current OPM investigation billing rate charged for an investigation of type * * * | Plus the NRC's processing fee (rounded to the nearest dollar), which is equal to the OPM investigation billing rate for the type of investigation referenced multiplied by * * *
i. NRC-R ¹ | NACLC—National Agency Check with Law and Credit (Standard Service, Code C) | 55.8%.
* * * * * * *
¹ If the NRC, having reviewed the available data, deems it necessary to perform a single scope investigation, the appropriate NRC-U fee will be assessed before the conduct of the investigation.

* * * * *

PART 25—ACCESS AUTHORIZATION

3. Revise the authority citation for part 25 to read as follows:

Authority: Atomic Energy Act secs. 145, 161, 223, 234 (42 U.S.C. 2165, 2201, 2273, 2282); Energy Reorganization Act sec. 201 (42 U.S.C. 5841); Government Paperwork Elimination Act sec. 1704 (44 U.S.C. 3504 note); E.O. 10865, as amended, 3 CFR, 1959-1963 Comp., p. 398 (50 U.S.C. 401, note); E.O. 12829, 3 CFR, 1993 Comp., p. 570; E.O. 13526, 3 CFR, 2010 Comp., pp. 298-327; E.O. 12968, 3 CFR, 1995 Comp., p. 396.

Section 25.17(f) and Appendix A also issued under 31 U.S.C. 9701; Omnibus Reconciliation Act of 1990 sec. 6101 (42 U.S.C. 2214).

§ 25.17 [Corrected]

4. In § 25.17, paragraph (f)(2), second sentence, and paragraph (f)(3), sixth sentence, remove the reference “Licensee_Access_Authorization_Fee@nrc.gov” and add, in its place, the reference “Licensee_Access_Authorization_Fee.Resource@nrc.gov.”

5. In appendix A to part 25, revise the third row.

The revision reads as follows:

Appendix A to Part 25—Fees for NRC Access Authorization

The NRC application fee for an access authorization of type * * * | Is the sum of the current OPM investigation billing rate charged for an investigation of type * * * | Plus the NRC's processing fee (rounded to the nearest dollar), which is equal to the OPM investigation billing rate for the type of investigation referenced multiplied by * * *
* * * * * * *
Renewal of “L” access authorization ¹ | NACLC—National Agency Check with Law and Credit (Standard Service, Code C) | 55.8%.
* * * * * * *
¹ If the NRC determines, based on its review of available data, that a single scope investigation is necessary, the appropriate fee for an Initial “Q” access authorization will be assessed before the conduct of investigation.

* * * * *

Dated at Rockville, Maryland, this 30th day of July 2012.
For the Nuclear Regulatory Commission.
Cindy Bladey,
Chief, Rules, Announcements, and Directives Branch, Division of Administrative Services, Office of Administration.

[FR Doc. 2012-18934 Filed 8-2-12; 8:45 am]

BILLING CODE 7590-01-P